FEDERAL COMMUNICATIONS COMMISSION

Notice of Public Information Collection(s) Being Submitted for Review to the Office of Management and Budget

December 1, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 12, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@eop.omb.gov and to Judith-B.Herman@fcc.gov, Federal Communications Commission, Room 1-B441, 445 12th Street, SW., Washington, DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0531.

Title: Local Multipoint Distribution Service (LMDS).

Form No.: N/A.

Type of Review: Extension of a currently approved collection.

Respondents: Business or other for-profit.

Number of Respondents: 423 respondents; 423 responses.

Estimated Time per Response: .25-20 hours.

Frequency of Response: On occasion and every 10 year reporting requirements and third party disclosure requirement.

Obligation to Respond: Required to obtain or retain benefits.

Total Annual Burden: 6,394 hours.

Total Annual Cost: $10,800.

Privacy Act Impact Assessment: N/A.

Nature and Extent of Confidentiality: There is no need for confidentiality. Respondents may request materials or information submitted to the Commission be withheld from public inspection under 47 CFR 0.459 of the Commission's rules.

Needs and Uses: The Commission will submit this information collection to OMB as an extension (no change in reporting or third party disclosure requirements) after this 30 day comment period to obtain the full three-year clearance from them.

This collection of information for Local Multipoint Distribution Service (LMDS) is imposed on respondents pursuant to 47 CFR 101.103 and 101.1011.

Pursuant to 47 CFR 101.1011, LMDS licensees must make a showing of substantial service in their license area within ten years of being licensed. A licensee must demonstrate that it provided service which is sound, favorable, and substantially above a level of mediocre service which might minimally warrant renewal.

In order to do so, an LMDS licensee seeking renewal must submit a showing to explain why renewal of the license is warranted. At a minimum, this showing must include: (1) A description of its current service in terms of geographic coverage and population served; (2) an explanation of its record of expansion, including a timetable of new construction to meet changes in demand for service; and (3) copies of all Commission rule or policy and a list of an pending proceedings that relate to any matter described directly above. Renewal applications must be filed once every ten years. The information is used by Commission staff in carrying out its duties to determine the technical, legal and other qualifications of applicants to operate and remain license to operate a station in the LMDS. Specifically, the frequency coordination information requested pursuant to section 101.103 is necessary to facilitate the rendition of communication service on an interference-free basis in each service area. The frequency coordination procedures ensure that LMDS applicants and licensees have the information necessary to cooperate in the selection and use of frequencies assigned in order to minimize interference and thereby obtain the most effective use of the spectrum. The information is also necessary for the Commission to resolve interference conflicts that cannot be settled between or among the affected applicants and licensees. For LMDS licensees seeking renewal, the information requested pursuant to section 101.1011 is necessary for the Commission staff to determine whether a licensee has provided sufficient evidence of substantial service during its license term and has substantially complied with the Communications Act and with applicable Commission rules and policies.

Federal Communications Commission.
Marlene H. Dortch,
Secretary.

[FR Doc. E6-20998 Filed 12-12-06; 8:45 am]

BILLING CODE 6712-01-P